SMALL BUSINESS ADMINISTRATION

[Declaration of Disaster #3345; Amendment #2]

State of West Virginia

In accordance with a notice received from the Federal Emergency Management Agency, dated June 18, 2001, the above-numbered Declaration is hereby amended to include Preston County in the State of West Virginia as a disaster area caused by flooding, severe storms, and landslides beginning on May 15, 2001 and continuing.

In addition, applications for economic injury loans from small businesses located in Barbour, Monongalia, Tucker and Taylor Counties in the State of West Virginia; Garrett County in the State of Maryland; and Fayette County in the State of Pennsylvania may be filed until the specified date at the previously designated location. Any counties contiguous to the above named primary counties and not listed here have been previously declared.

The economic injury numbers assigned are 9L9500 for Maryland and 9L9600 for Pennsylvania.

All other information remains the same, i.e., the deadline for filing applications for physical damage is August 2, 2001, and for loans for economic injury is March 4, 2002.

(Catalog of Federal Domestic Assistance Program Nos. 59002 and 59008.)
Dated: June 19, 2001.
James E. Rivera,
Acting Associate Administrator for Disaster Assistance.

[FR Doc. 01-15914 Filed 6-25-01; 8:45 am]

BILLING CODE 8025-01-P